DEPARTMENT OF HEALTH AND HUMAN SERVICES

Health Resources and Services Administration

Delegation of Authority

Notice is hereby given that I have delegated to the Administrator, Health Resources and Services Administration (HRSA), the authority to execute functions pertaining to the Healthy Communities Access Program (HCAP) and “HCAP Demonstration Projects,” section 340, including 340(j) of Title III, Part D of the Public Health Service Act, as amended. This authority may be redelegated.

This delegation shall be exercised under the Department's existing delegation and policy on regulations.

I have ratified any actions taken by the HRSA Administrator or other HRSA officials that involve the exercise of this authority prior to the effective date of this delegation.

This delegation was effective on the date of signature.

Dated: September 29, 2004.
Tommy G. Thompson,
Secretary, Department of Health and Human Services.

[FR Doc. 04-22453 Filed 10-5-04; 8:45 am]

BILLING CODE 4165-15-M